DEPARTMENT OF LABOR

Employment and Training Administration

[TA-W-57,901]

Barrett Business Services, Inc., Santa Ana, CA; Notice of Termination of Investigation

Pursuant to Section 221 of the Trade Act of 1974, as amended, an investigation was initiated on September 8, 2005 in response to a worker petition filed a California state workforce agent on behalf of workers at Barrett Business Services, Inc., Santa Ana, California.

The petitioner has requested that the petition be withdrawn. Consequently, the investigation has been terminated.

Signed at Washington, DC, this 22nd day of September 2005.
Richard Church,
Certifying Officer, Division of Trade Adjustment Assistance.

[FR Doc. E5-5889 Filed 10-24-05; 8:45 am]

BILLING CODE 4510-30-P